DEPARTMENT OF COMMERCE

National Institute of Standards and Technology

Proposed Information Collection; Comment Request; Baldrige Executive Fellows Program

AGENCY: National Institute of Standards and Technology, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 26, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Dawn Bailey, Baldrige Performance Excellence Program, 100 Bureau Drive, Stop 1020, Gaithersburg, MD 20899, 301-975-3074, dawn.bailey@nist.gov.

SUPPLEMENTARY INFORMATION:

I. Abstract

The Baldrige Performance Excellence Program seeks applicants for the Baldrige Executive Fellows Program, a one-year, leadership development experience for direct reports to the most senior leader in an organization or business unit leaders. Using the Baldrige Excellence Framework as a foundation, the program discusses impactful leadership through visits to Baldrige Award recipient sites and senior leaders, virtual discussions, and face-to-face peer training using an adult learning model. Fellows will discuss how to achieve performance excellence for their own organizations, stimulate innovation, and build the knowledge and capabilities necessary for organizational sustainability. Fellows will create a capstone project that tackles an issue of strategic importance in their own organizations; capstones have included innovating supply chains and customer relationship management systems, improving health systems and their communication with physicians, and creating balanced scorecards. The Baldrige Executive Fellows has been nationally recognized for two consecutive years as the number-one leadership development program in the military/government category of the Leadership 500 Awards, sponsored by HR.com. The program is aligned with the Baldrige Program mission to improve the competitiveness and performance of U.S. organizations for the benefit of all U.S. residents. The Baldrige Program and its Malcolm Baldrige National Quality Award were created by Public Law 100-107 (The Malcolm Baldrige National Quality Improvement Act of 1987) and signed into law on August 20, 1987.

II. Method of Collection

Senior leaders interested in applying for selection as a Baldrige Fellow must mail the following package of material directly to the Baldrige Program:

1. A resumé, including email, postal address, and telephone contact information; and the name and email address of an assistant or alternate contact person

2. An organizational chart that includes names and titles showing the applicant's position within the organization

3. A recommendation letter from the applicant's highest-ranking official showing the organization's support of his/her participation in the program

4. A list of key competitors (in order that the Baldrige Program may avoid creating a cohort that would be unable to share effectively due to competitive situations)

Fax is also acceptable. The NIST Secure File Transfer Service (“N-files”) is also made available for applicants who wish to electronically submit materials that include personally identifiable information.

Information is collected one time per year (typically in September-December) for each cohort of Fellows.

Information is need to make selection decisions that are based on (1) sector mix, (2) appropriate level within the organization, (3) likelihood to follow through, (4) diversity, and (5) no direct competitors with participating award recipients or other Fellows.

III. Data

OMB Control Number: #0693-XXXX.

Form Number(s): None.

Type of Review: Regular submission.

Affected Public: Any senior or mid-level leader from business or other for-profit organizations; not-for-profit institutions; state, local, or tribal government; Federal government.

Estimated Number of Respondents: 15 per year.

Estimated Time per Response: 1 hour to gather materials.

Estimated Total Annual Burden Hours: 15 hours.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 21, 2015.
Glenna Mickelson,
Management Analyst, Office of the Chief Information Officer.

[FR Doc. 2015-21214 Filed 8-26-15; 8:45 am]

BILLING CODE 3510-13-P